ENVIRONMENTAL PROTECTION AGENCY

40 CFR Part 300

[EPA-R04-SFUND-2007-0613; FRL-8451-4]

National Oil and Hazardous Substances Pollution Contingency Plan; National Priorities List

AGENCY: Environmental Protection Agency (EPA).

ACTION: Direct final notice of deletion for the Rochester Property Superfund Site from the National Priorities list.

SUMMARY: EPA Region 4 is publishing a direct final notice of deletion of the Rochester Property, Superfund Site (Site), located in Travelers Rest, South Carolina, from the National Priorities List (NPL). The NPL, promulgated pursuant to section 105 of the Comprehensive Environmental Response, Compensation, and Liability Act (CERCLA) of 1980, as amended, is appendix B of 40 CFR part 300, which is the National Oil and Hazardous Substances Pollution Contingency Plan (NCP). This direct final notice of deletion is being published by EPA with the concurrence of the State of South Carolina, through the South Carolina Department of Health and Environmental Control (SCDHEC) because EPA has determined that all appropriate response actions under CERCLA have been completed and, therefore, further remedial action pursuant to CERCLA is not appropriate.

DATES: This direct final notice is effective October 9, 2007 without further notice, unless EPA receives adverse comment by September 10, 2007. If adverse comment is received, EPA will publish a timely withdrawal of the direct final notice in the Federal Register and inform the public that the notice will not take effect.

ADDRESSES: Submit your comments, identified by EPA-R04-SFUND-2007-0613, by one of the following methods:

1. http://www.regulations.gov: Follow the on-line instructions for submitting comments.

2. E-mail: webster.donna@epa.gov.

3. Fax: (404) 562-8788.

4. Mail: EPA-R04-SFUND-2007-0613, Superfund Remedial & Site Evaluation Branch, Superfund Division, U.S. Environmental Protection Agency, Region 4, 61 Forsyth Street, SW., Atlanta, Georgia 30303-8960.

5. Hand Delivery or Courier: Donna K. Webster, Remedial Project Manager, Superfund Remedial & Site Evaluation Branch, Superfund Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Instructions: Direct your comments to EPA-R04-SFUND-2007-0613. EPA's policy is that all comments received will be included in the public docket without change and may be made available online at www.regulations.gov, including any personal information provided, unless the comment includes information claimed to be Confidential Business Information (CBI) or other information whose disclosure is restricted by statute. Do not submit through www.regulations.gov or e-mail, information that you consider to be CBI or otherwise protected. The www.regulations.gov Web site is an “anonymous access” systems, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the U.S. Environmental Protection Agency, Region 4, 61 Forsyth Street, SW., Atlanta, Georgia 30303-8960. EPA requests that if at all possible, you contact the person listed in the for further information contact section to schedule your inspection. The Regional Office's official hours of business are Monday through Friday, 8:30 to 4:30 excluding legal holidays.

Comprehensive information on this Site is available through the Region 4 public docket, which is available for viewing at the Rochester Property Site information repositories at two locations. Locations, contacts, phone numbers and viewing hours are:

Rochester Property Site Repository, Travelers Rest Library, 17 Center Street, Travelers Rest, SC 29690, Hours: Monday through Thursday—9 a.m. until 9 p.m., Friday and Saturday—9 a.m. until 6 p.m.

U.S. EPA Record Center, Attn: Ms. Debbie Jourdan, Atlanta Federal Center, 61 Forsyth Street, SW., Atlanta, Georgia 30303-8960, Phone: (404) 562-8862, Hours 8 a.m. to 4 p.m., Monday through Friday by appointment only.

FOR FURTHER INFORMATION CONTACT: Donna K. Webster, Remedial Project Manager, Superfund Remedial & Site Evaluation Branch, Superfund Division, U.S. Environmental Protection Agency, Region 4, 61 Forsyth Street, SW., Atlanta, Georgia 30303-8960, Phone: (404) 562-8870, Electronic Mail: webster.donna@epa.gov.

SUPPLEMENTARY INFORMATION:

Table of Contents

I. Introduction

II. NPL Deletion Criteria

III. Deletion Procedures

IV. Basis for Site Deletion

V. Deletion Action

I. Introduction

EPA Region 4 is publishing this direct final notice of deletion of the Rochester Property Superfund Site from the NPL.

The EPA identifies Sites that appear to present a significant risk to public health or the environment and maintains the NPL as the list of those Sites. As described in the Section 300.425(e)(3) of the NCP, Sites deleted from the NPL remain eligible for remedial actions if conditions at a deleted Site warrant such action.

Section II of this document explains the criteria for deleting Sites from the NPL. Section III discusses procedures that EPA is using for this action. Section IV discusses the Rochester Property Superfund Site and demonstrates how it meets the deletion criteria. Section V discusses EPA's action to delete the Site from the NPL unless adverse comments are received during the public comment period.

II. NPL Deletion Criteria

Section 300.425(e) of the NCP provides that releases may be deleted from the NPL where no further response is appropriate. In making a determination to delete a Site from the NPL, EPA shall consider, in consultation with the State, whether any of the following criteria have been met:

i. Responsible parties or other persons have implemented all appropriate response actions required;

ii. All appropriate Fund-financed (Hazardous Substance Superfund) response under CERCLA has been implemented, and no further response action by responsible parties is appropriate; or

iii. The remedial investigation has shown that the release poses no significant threat to public health or the environment and, therefore, the taking of remedial measures is not appropriate.

Even if a Site is deleted from the NPL, where hazardous substances, pollutants, or contaminants remain at the deleted Site above levels that allow for unlimited use and unrestricted exposure, CERCLA section 121(c), 42 U.S.C. 9621(c) requires that a subsequent review of the Site be conducted at least every five years after the initiation of the remedial action at the deleted Site to ensure that the action remains protective of public health and the environment. In the case of this site, the selected remedy is protective of human health and the environment. EPA has determined that all remedial action objectives and cleanup goals have been attained, that all cleanup actions are completed at this site, and there are no hazardous substances, pollutants, or contaminants remaining at the site above levels that allow for unlimited use and unrestricted exposure. If new information becomes available which indicates a need for further action, EPA may initiate remedial actions. Whenever there is a significant release from a Site deleted from the NPL, the deleted Site may be restored to the NPL without application of the hazard ranking system.

III. Deletion Procedures

The following procedures apply to deletion of the Site:

(1) The EPA consulted with the State of South Carolina on the deletion of the Site from the NPL prior to developing this direct final notice of deletion.

(2) South Carolina concurred with deletion of the Site from the NPL.

(3) Concurrently with the publication of this direct final notice of deletion, a notice of the availability of the parallel notice of intent to delete published today in the “Proposed Rules” section of the Federal Register is being published in a major local newspaper of general circulation at or near the Site and is being distributed to appropriate federal, state, and local government officials and other interested parties; the newspaper notice announces the 30-day public comment period concerning the notice of intent to delete the Site from the NPL.

(4) The EPA placed copies of documents supporting the deletion in the Site information repositories identified above.

(5) If adverse comments are received within the 30-day public comment period on this document, EPA will publish a timely notice of withdrawal of this direct final notice of deletion before its effective date and will prepare a response to comments and continue with the deletion process on the basis of the notice of intent to delete and the comments already received.

Deletion of a Site from the NPL does not itself create, alter, or revoke any individual's rights or obligations. Deletion of a Site from the NPL does not in any way alter EPA's right to take enforcement actions, as appropriate. The NPL is designed primarily for informational purposes and to assist EPA management. Section 300.425(e)(3) of the NCP states that the deletion of a Site from the NPL does not preclude eligibility for future response actions, should future conditions warrant such actions.

IV. Basis for Site Deletion

The following information provides EPA's rationale for deleting the Site from the NPL:

Site Background and History

The Rochester Property Site (Site) is located west of the town of Travelers Rest, in Greenville County, South Carolina, in a rural, sparsely populated area. The 4.5 acre site lies approximately 300 feet north of County Road 268, also known as Ledbetter Road, and approximately one-quarter mile east of County Road 102. The area where waste was disposed, and later removed, is located within a 0.6 acre fenced area. The northern portion of the property is a pine and deciduous forest, while the southern portion is grassed. A small house is located at the east end of the site.

In late 1971 and early 1972, waste materials were placed in four trenches on the site. Each of the trenches was approximately 40 feet long, 3 feet wide and 10 feet deep. The wastes were thought to include wood glue, print binders, powder materials, natural guar gums, adhesive for food packages, and adhesive restick for envelopes.

Response Actions

The site was included on the NPL on October 4, 1989.

On June 5, 1989, EPA and the Potentially Responsible Party (PRP) signed an Administrative Order on Consent (AOC), Docket No. 89-09-C, requiring that the PRP characterize the vertical and horizontal extent of affected media and remove the buried waste. In January 1990, 1400 cubic yards of waste and surrounding soil were excavated and disposed of off-site at a secure hazardous waste landfill.

EPA and the PRP signed another AOC, Docket Number 92-04-C, dated February 19, 1992, to conduct the Remedial Investigation and Feasibility Study (RI/FS). RMT, Inc. (RMT) submitted to EPA, on behalf of the PRP, the Final RI Report in April 1993, and the Final FS Report in May 1993. A ROD was signed August 31, 1993.

Cleanup Goals

The ROD specified that the preferred remedy for groundwater at the site would be the installation and operation of a dual trench, in-situ air sparging system, in order to meet the remedial goals (RGs). The RGs were set at the Maximum Contaminant Level (MCL) of .005 ppm for trichlorethylene (TCE) and 0.006 ppm for bis (2-ethylhexyl) phthalate, and a risk-based level of 0.180 ppm for manganese (Mn).

Construction of the system was completed by June 1995. After approximately three years of air sparging, the monitoring wells that had the highest concentration of organic contaminants of concern during the RI did not show any concentrations exceeding the RGs. However, in 1996, one monitoring well, located downgradient of the air sparging trenches, began to show TCE concentrations above the RG.

On July 8, 2002, an ESD to the ROD was issued to address the downgradient contamination. The significant change to the ROD was that a mixture of air and ozone would be sparged, rather than air only. The supplemental remedy for the site, ozone sparging and recirculation, was installed at the site in 2002 and began operation in October 2002.

Since the ROD was signed, the toxicity criterion for Mn in USEPA's Integrated Risk Information System (IRIS) database was changed; Mn is now believed to be less toxic than previously thought and the hazard quotient for Mn in groundwater is an order of magnitude lower. As a result, on January 31, 2006, a second ESD was issued removing the RG for Mn from the site remedy.

Confirmatory sampling verifies that all remedial action objectives and cleanup goals have been attained, and all cleanup actions are complete as specified in the ROD, as changed by the ESDs issued July 2002 and January 2006. Three annual confirmatory groundwater sampling events were conducted to provide further assurance that the site is currently protective, no longer poses any threats to human health or the environment, all areas of concern described in the NPL listing have been adequately addressed, and no further Superfund response is needed to protect human health and the environment. The final groundwater sampling event was conducted in November 2006. No further operations and maintenance (O&M) activities are required.

Operation and Maintenance

The cleanup of the site complies with the “clean closure” requirements, consistent with the Resource Conservation and Recovery Act of 1976, as amended, CERCLA, as amended, and to the extent practicable, the NCP. No further site O&M activities are required.

Five-Year Review

CERCLA requires a five-year review of all sites with hazardous substances remaining above the health-based levels for unrestricted use of the site. EPA conducted two five-year reviews at the site while the remedial action was being implemented. Since there are no hazardous substances, pollutants, or contaminants remaining at the site above levels that allow for unlimited use and restricted exposure, no further five-year reviews are required.

Community Involvement

An information repository was established at the Travelers Rest Library and all of the documents used to make the decision were placed there before the final ROD was signed. All other reports and fact sheets were sent to the repository as they were completed. Since the remedy was initiated at this site, public interest or concern about the site has not been expressed.

Applicable Deletion Criteria/State Concurrence.

One of the three criteria for site deletion specifies that EPA may delete a site from the NPL if all appropriate Fund-financed response under CERCLA has been implemented, and no further response action by responsible parties is appropriate. 40 CFR 300.425(e)(1)(ii). EPA, with the concurrence of the State of South Carolina through the SCDHEC in a letter dated July 5, 2007, believes that this criterion for deletion has been met. All the completion requirements for this Site have been met as described in the Final Close-Out Report (COR) dated June 8, 2007. The Final COR documents the completion of all remedial and operation and maintenance activities. Consequently, EPA is proposing deletion of this Site from the NPL. Documents supporting this action are available in the docket.

V. Deletion Action

The EPA, with concurrence of the State of South Carolina, has determined that all appropriate responses under CERCLA have been completed, and that no further response actions under CERCLA are necessary. Therefore, EPA is deleting the Site from the NPL.

Because EPA considers this action to be noncontroversial and routine, EPA is taking it without prior publication. This action will be effective October 9, 2007 unless EPA receives adverse comments by September 10, 2007. If adverse comments are received within the 30-day public comment period, EPA will publish a timely withdrawal of this direct final notice of deletion before the effective date of the deletion and it will not take effect and, EPA will prepare a response to comments and continue with the deletion process on the basis of the notice of intent to delete and the comments already received. There will be no additional opportunity to comment.

List of Subjects in 40 CFR Part 300

Environmental protection, Chemicals, Hazardous substances, Hazardous waste, Superfund, Water pollution control, Water supply.

Dated: July 23, 2007.
J.I. Palmer, Jr.,
Regional Administrator, Region 4.

40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. Table 1 of Appendix B to Part 300 is amended by removing the site “Rochester Property, Travelers Rest, SC.”

[FR Doc. E7-15332 Filed 8-8-07; 8:45 am]

BILLING CODE 6560-50-P